FEDERAL COMMUNICATIONS COMMISSION

47 CFR Part 1

[WT Docket No. 10-18; DA 10-288]

Procedural Amendments to Commission Competitive Bidding Rules

AGENCY: Federal Communications Commission.

ACTION: Correcting amendment.

SUMMARY: The Federal Communications Commission published a document in the Federal Register at 75 FR 4701, January 29, 2010, revising Commission rules. This summary corrects the final rules by amending the headings of 47 CFR 1.2105 and 1.2105(c) and the statutory authority for part 1. The change and restoration of language conforms the headings to the Commission's intent. These corrections make no change to the substance of the rule, or the Commission's interpretation or application of the rule.

DATES: Effective March 4, 2010.

FOR FURTHER INFORMATION CONTACT: Wireless Telecommunications Bureau, Auctions and Spectrum Access Division: Sayuri Rajapakse at (202) 418-0660.

SUPPLEMENTARY INFORMATION: This is a summary of the Commission's Part 1 Procedural Amendments Order and Errata adopted February 24, 2010, and released on February 24, 2010. The complete text of the Part 1 Procedural Amendments Order and Errata is available for public inspection and copying from 8 a.m. to 4:30 p.m. ET Monday through Thursday or from 8 a.m. to 11:30 a.m. ET on Fridays in the FCC Reference Information Center, 445 12th Street, SW., Room CY-A257, Washington, DC 20554. The Part 1 Procedural Amendments Order and Errata may be purchased from the Commission's duplicating contractor, Best Copy and Printing, Inc. (BCPI), 445 12th Street, SW., Room CY-B402, Washington, DC 20554, telephone 202-488-5300, fax 202-488-5563, or you may contact BCPI at its Web site: http://www.BCPIWEB.com. When ordering documents from BCPI, please provide the appropriate FCC document number, for example, DA 10-288. The Part 1 Procedural Amendments Order and Errata is also available on the Internet at the Commission's Web site: http://wireless.fcc.gov/auctions, or by using the search function for WT Docket No. 10-18 on the ECFS Web page at http://www.fcc.gov/cgb/ecfs/.

1. The Wireless Telecommunications Bureau (Bureau) makes a conforming amendment to a recent Commission order and corrects errors in the Federal Register summary of that order, which made procedural amendments to section 1.2105 of the Commission's competitive bidding rules.

2. On January 7, 2010, the Commission issued an Order which amended the rule specifying how to report potential violations of 47 CFR 1.2105(c) and amended the rules specifying how quickly applicants must modify pending auction applications to satisfy the requirements of 47 CFR 1.65(a) and 1.2105(b). The Order also modified the heading of paragraph 47 CFR 1.2105(c). A summary of the Order was published in the Federal Register, 75 FR 4701, January 29, 2010, but the changes made therein were not consistent with the Order as released.

3. The Bureau now amends the heading of 47 CFR 1.2105 to read: Bidding application and certification procedures; prohibition of certain communications. The Order inadvertently preserved the phrase prohibition of collusion in the heading, and the Federal Register summary of the Order inadvertently deleted a portion of the rule's heading. This change and restoration of language conforms the heading to the Commission's intent underlying the Order. In the Order, the Commission recognized that collusion is a term used in many contexts, legal and economic, and that its use in connection with 47 CFR 1.2105's prohibition of certain communications by auction applicants may cause confusion. This amendment makes no change to the substance of the rule, or the Commission's interpretation or application of the rule.

4. The Bureau also confirms the Commission's intention to amend the heading of paragraph 1.2105(c) to read Prohibition of certain communications rather than Prohibition of collusion. While this change is reflected in the Order, the Federal Register summary inadvertently omitted this language from the paragraph's heading.

5. The Bureau amends the list of statutory authorities for part 1 to correct inaccuracies that exist in the current version of the Code of Federal Regulations.

List of Subjects in 47 CFR Part 1

Administrative practice and procedures, Competitive bidding, Telecommunications.

Federal Communications Commission.
Jane E. Jackson,
Associate Chief, Wireless Telecommunications Bureau.

Correcting Amendment

Accordingly, 47 CFR part 1 is corrected by the following amendments:

PART 1—PRACTICE AND PROCEDURE

1. The authority citation for part 1 is revised to read as follows:

Authority: 15 U.S.C. 79 et seq.; 47 U.S.C. 151, 154(i), 154(j), 155, 157, 225, 303(r), and 309.

2. Amend § 1.2105 by revising the section heading and the heading to paragraph (c) to read as follows:

§ 1.2105 Bidding application and certification procedures; prohibition of certain communications.

* * * * *

(c) Prohibition of certain communications. * * *

* * * * *

[FR Doc. 2010-4425 Filed 3-3-10; 8:45 am]

BILLING CODE 6712-01-P